DEPARTMENT OF COMMERCE

National Oceanic and Atmospheric Administration

50 CFR Part 648

[Docket No. 230810-0190]

RIN 0648-BL95

Magnuson-Stevens Fishery Conservation and Management Act Provisions; Fisheries of the Northeastern United States; Northeast Multispecies Fishery; Framework Adjustment 65

Correction

In rule document 2023-17592, beginning on page 56527 in the of Friday, August 18, 2023, make the following correction:

§ 648.86 [Corrected]

1. On page 56543, in the first column, in amendatory instruction number 3, in the seventh line, “In § 648.86, revise paragraph I to read as follows” should read “In § 648.86, revise paragraph (c) to read as follows”

§ 648.87 [Corrected]

2. On page 56543, in the first column, in amendatory instruction number 4b, in the twenty-fifth line, “Remove paragraphs I(2)(i)(A) and (B)” should read “Remove paragraphs (c)(2)(i)(A) and (B)”

[FR Doc. C1-2023-17592 Filed 8-24-23; 8:45 am]

BILLING CODE 0099-10-D